FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010099-063.

Title: International Council of Containership Operators.

Parties: A.P. Moller-Maersk A/S; CMA. CGM, S.A.; China COSCO Shipping Corporation Limited; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW.; Washington, DC 20006-1600.

Synopsis: The amendment deletes APL Co. Pte. Ltd. and its subsidiary American President Lines, Ltd. as a separate member of the Agreement, and records it under CMA CGM S.A. to reflect the merger of the companies.

Agreement No.: 012211-001.

Title: COSCON/Zim Slot Charter Agreement.

Parties: COSCO Container Lines Co. Ltd. and Zim Integrated Shipping Service, Ltd.

Filing Party: Eric C. Jeffrey, Esq.; Nixon Peabody; 799 9th Street NW., Suite 500; Washington, DC 20001.

Synopsis: The amendment would authorize the parties to update the service on which COSCON provides slots to Zim in the trade between China and the U.S. West Coast, and provide for an expiration date of March 31, 2017. The parties have requested expedited review.

Agreement No.: 012233-005.

Title: UASC/CMA CGM/PIL Vessel Sharing Agreement—Asia and U.S. West Coast Services.

Parties: United Arab Shipping Company (S.A.G.); CMA CGM S.A.; and Pacific International Lines (Pte) Ltd.

Filing Party: Joshua P. Stein; Cozen O'Connor; 1200 Nineteenth Street NW., Washington, DC 20036.

Synopsis: The amendment changes the name of the Agreement to the UASC/PIL Vessel Sharing Agreement—Asia and U.S. West Coast Services and deletes CMA CGM as a party to the Agreement. It also reflects the modified cooperation that will take place between UASC and PIL following CMA CGM's withdrawal from the Agreement.

Agreement No.: 012412-001.

Title: HMM/ZIM Slot Exchange Agreement.

Parties: Hyundai Merchant Marine Co., Ltd. and Zim Integrated Shipping Services, Ltd.

Filing Party: Mark E. Newcomb; ZIM American Integrated Shipping Services, Co. LLC; 5801 Lake Wright Dr.; Norfolk, VA 23508.

Synopsis: The amendment deletes Malaysia, Panama, Saudi Arabia, Singapore, Sri Lanka, Taiwan, Vietnam, and the Gulf of Mexico, and adds South Korea and Panama to the geographic scope of the agreement. It also updates the services on which the parties provide space to each other.

By Order of the Federal Maritime Commission.
Dated: October 14, 2016.
Rachel E. Dickon,
Assistant Secretary.

[FR Doc. 2016-25289 Filed 10-18-16; 8:45 am]

BILLING CODE 6731-AA-P